DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Alabama: Autauga (FEMA Docket No.: B-2391). | City of Prattville (23-04-1024P). | The Honorable Bill Gillespie, Jr., Mayor, City of Prattville, 101 West Main Street, Prattville, AL 36067. | City Hall, 102 West Main Street, Prattville, AL 36067. | Dec. 26, 2023 | 010002
Arkansas:
Benton (FEMA Docket No.: B-2382). | City of Bentonville (22-06-2867P). | The Honorable Stephanie Orman, Mayor, City of Bentonville, 305 Southwest A Street, Bentonville, AR 72712. | Public Works Department, 3200 Southwest, Municipal Drive, Bentonville, AR 72712. | Dec. 29, 2023 | 050012
Benton (FEMA Docket No.: B-2382). | City of Centerton (22-06-2867P). | The Honorable Bill Edwards, Mayor, City of Centerton, 200 Municipal Drive, Centerton, AR 72719. | Planning and Development Department, 200 Municipal Drive, Centerton, AR 72719. | Dec. 29, 2023 | 050399
Colorado:
Adams (FEMA Docket No.: B-2391). | City of Aurora (22-08-0792P). | The Honorable Mike Coffman, Mayor, City of Aurora, 15151 East Alameda Parkway, Aurora, CO 80012. | Public Works Department, 15151 East Alameda, Parkway, Suite 3200, Aurora, CO 80012. | Dec. 15, 2023 | 080002
Adams (FEMA Docket No.: B-2386). | City of Northglenn (22-08-0711P). | The Honorable Meredith Leighty, Mayor, City of Northglenn, 11701 Community Center Drive, Northglenn, CO 80233. | City Hall 11701 Community Center Drive, Northglenn, CO 80233. | Dec. 15, 2023 | 080257
Adams (FEMA Docket No.: B-2391). | Unincorporated areas of Adams County (22-08-0792P). | Steve O'Dorisio Chair, Adams County, Board of Commissioners, 4430 South Adams County Parkway, Brighton, CO 80601. | Adams County Community and Economic Development, 4430 South Adams County Parkway, Brighton, CO 80601. | Dec. 15, 2023 | 080001
Boulder (FEMA Docket No.: B-2382). | City of Boulder (22-08-0838P). | The Honorable Aaron Brockett, Mayor, City of Boulder, 1777 Broadway Street, Boulder, CO 80302. | Municipal Building, 1777 Broadway Street, Boulder, CO 80302. | Dec. 18, 2023 | 080024
Broomfield (FEMA Docket No.: B-2376). | City and County of Broomfield (22-08-0513P). | The Honorable Guyleen Castriotta, Mayor, City and County of Broomfield, 1 DesCombes Drive Broomfield, CO 80020. | Engineering Department, 1 DesCombes Drive, Broomfield, CO 80020. | Jan. 2, 2024 | 085073
Pueblo (FEMA Docket No.: B-2386). | City of Pueblo (22-08-0523P). | The Honorable Nicholas A. Gradisar, Mayor, City of Pueblo, 1 City Hall Place, Pueblo, CO 81003. | Public Works Department, 211 East D Street, Pueblo, CO 81003. | Dec. 21, 2023 | 085077
Delaware: New Castle (FEMA Docket No.: B-2376). | Unincorporated areas of New Castle County (23-03-0218P). | Matthew Meyer, New Castle County Executive, 87 Reads Way, New Castle, DE 19720. | New Castle County Land Use Department, 87 Reads Way, New Castle, DE 19720. | Dec. 28, 2023 | 105085
Florida:
Duval (FEMA Docket No.: B-2391). | City of Jacksonville (23-04-1483P). | The Honorable Donna Deegan, Mayor, City of Jacksonville, 117 West Duval Street, Jacksonville, FL 32202. | City Hall 117 West Duval Street, Suite 400 Jacksonville, FL 32202. | Dec. 21, 2023 | 120077
Hillsborough (FEMA Docket No.: B-2382). | Unincorporated areas of Hillsborough County (23-04-2315P). | Bonnie Wise Hillsborough County Administrator, 601 East Kennedy, Boulevard, 26th Floor, Tampa, FL 33602. | Hillsborough County Center, 601 East Kennedy Boulevard, 22nd Floor, Tampa, FL 33602. | Jan. 18, 2024 | 120112
Hillsborough (FEMA Docket No.: B-2382). | Unincorporated areas of Hillsborough County (23-04-2913P). | Bonnie Wise Hillsborough County Administrator, 601 East Kennedy, Boulevard, 26th Floor, Tampa, FL 33602. | Hillsborough County Center 601 East Kennedy Boulevard, 22nd Floor Tampa, FL 33602. | Jan. 18, 2024 | 120112
Monroe (FEMA Docket No.: B-2382). | Unincorporated areas of Monroe County (23-04-4347P). | The Honorable Craig Cates, Mayor, Monroe County Board of Commissioners, 500 Whitehead Street, Suite 102, Key West, FL 33040. | Monroe County Building Department, 2798 Overseas, Highway, Suite 300, Marathon, FL 33050. | Dec. 15, 2023 | 125129
Monroe (FEMA Docket No.: B-2386). | Unincorporated areas of Monroe County (23-04-4348P). | The Honorable Craig Cates, Mayor, Monroe County Board of Commissioners 500 Whitehead Street, Suite 102, Key West, FL 33040. | Monroe County Building Department, 2798 Overseas Highway, Suite 300 Marathon, FL 33050. | Dec. 18, 2023 | 125129
Orange (FEMA Docket No.: B-2382). | City of Orlando (23-04-1723P). | The Honorable Buddy Dyer Mayor, City of Orlando, 400 South Orange Avenue, Orlando, FL 32801. | Public Works Department, Engineering Division, 400 South Orange Avenue, 8th Floor Orlando, FL 32801. | Dec. 18, 2023 | 120186
Osceola (FEMA Docket No.: B-2382). | City of St. Cloud (22-04-4332P). | Veronica Miller Manager, City of St., Cloud 1300 9th Street, St. Cloud, FL 34769. | Building Department Building A, 1300 9th Street St., Cloud, FL 34769. | Dec. 20, 2023 | 120191
Pasco (FEMA Docket No.: B-2376). | Unincorporated areas of Pasco County (23-04-2692P). | Jack Mariano Chair, Pasco County Board of Commissioners, 8731 Citizens Drive, New Port Richey, FL 34654. | Pasco County Building Construction Services Department, 8731 Citizens Drive, Suite 230 New Port Richey, FL 34654. | Dec. 28, 2023 | 120230
Sarasota (FEMA Docket No.: B-2386). | City of Sarasota (23-04-2352P). | The Honorable Kyle Scott Battie Mayor, City of Sarasota, 1565 1st Street, Room 101, Sarasota, FL 34236. | Development Service Department, 1565 1st Street, Room 101, Sarasota, FL 34236. | Dec. 26, 2023 | 125150
Sarasota (FEMA Docket No.: B-2382) | Unincorporated areas of Sarasota County (23-04-0451P). | Ron Cutsinger Chair, Sarasota County Board of Commissioners 1660 Ringling Boulevard Sarasota, FL 34236. | Sarasota County Planning and Development Services Department, 1001 Sarasota Center Boulevard, Sarasota, FL 34240. | Dec. 14, 2023 | 125144
Sumter (FEMA Docket No.: B-2382). | City of Wildwood (23-04-2289P). | The Honorable Ed Wolf Mayor, City of Wildwood, 100 North Main Street, Wildwood, FL 34785. | City Hall, 100 North Main Street, Wildwood, FL 34785. | Dec. 22, 2023 | 120299
Sumter (FEMA Docket No.: B-2382). | Unincorporated areas of Sumter County (23-04-2289P). | Craig A. Estep Chair, Sumter County Board of Commissioners, 7375 Powell Road Wildwood, FL 34785. | Sumter County Administration, 7375 Powell Road Wildwood, FL 34785. | Dec. 22, 2023 | 120296
Louisiana: Ascension (FEMA Docket No.: B-2386). | Unincorporated areas of Ascension Parish (23-06-0391P). | The Honorable Clint Cointment Ascension Parish President, 615 East Worthey Street, Gonzales, LA 70737. | Ascension Parish Government Complex, 615 East Worthey Street, Gonzales, LA 70737. | Dec. 22, 2023 | 220013
Maryland: Frederick (FEMA Docket No.: B-2382). | Unincorporated areas of Frederick County (23-03-0887P). | Jessica Fitzwater Frederick County, Executive 12 East Church Street, Frederick, MD 21701. | Frederick County Division of Planning and Permitting, 30 North Market Street, Frederick, MD 21701. | Dec. 27, 2023 | 240027
Massachusetts: Essex (FEMA Docket No.: B-2386). | City of Gloucester (23-01-0351P). | The Honorable Greg Varga Mayor, City of Gloucester, 9 Dale Avenue Gloucester, MA 01930. | City Hall 3 Pond Road, 2nd Floor Gloucester, MA 01930. | Dec. 18, 2023 | 250082
North Carolina: Rowan (FEMA Docket No.: B-2386). | Town of Granite Quarry (22-04-4689P). | The Honorable Brittany Barnhardt Mayor, Town of Granite Quarry, 143 North Salisbury Avenue, Granite Quarry, NC 28146. | Town Hall, 143 North Salisbury Avenue, Granite Quarry, NC 28146. | Jan. 3, 2024 | 370212
Tennessee: Williamson (FEMA Docket No.: B-2386). | Unincorporated areas of Williamson County (22-04-3168P). | The Honorable Rogers Anderson Mayor, Williamson County, 1320 West Main Street, Suite 125, Franklin, TN 37064. | Williamson County Planning and Zoning Department, 1320 West Main Street, Suite 400 Franklin, TN 37064. | Dec. 29, 2023 | 470204
Texas:
Caldwell (FEMA Docket No.: B-2376). | Unincorporated areas of Caldwell County (22-06-2389P). | The Honorable Hoppy Haden Caldwell County Judge, 110 South Main Street, Room 101, Lockhart, TX 78644. | Caldwell County Main Historic Courthouse, 110 South Main Street, Room 201 Lockhart, TX 78644. | Dec. 22, 2023 | 480094
Collin (FEMA Docket No.: B-2376). | City of Celina (23-06-0639P). | The Honorable Ryan Tubbs Mayor, City of Celina, 142 North Ohio Street, Celina, TX 75009. | City Hall, 142 North Ohio Street, Celina, TX 75009. | Jan. 2, 2024 | 480133
Johnson (FEMA Docket No.: B-2382). | City of Godley (23-06-0207P). | The Honorable Acy Mcgehee Mayor, City of Godley, 200 West Railroad Street, Godley, TX 76044. | City Hall, 104 South Main Street, Godley, TX 76044. | Jan. 2, 2024 | 480880
Kaufman (FEMA Docket No.: B-2382). | City of Forney (23-06-0547P). | Charles W. Daniels, City of Forney Manager, P.O. Box 826 Forney, TX 75126. | City Hall, 101 East Main Street, Forney, TX 75126. | Dec. 15, 2023 | 480410
Kaufman (FEMA Docket No.: B-2382). | Unincorporated areas of Kaufman County (23-06-0547P). | The Honorable Jakie Allen, Kaufman County Judge, 1902 East U.S. Highway 175, Kaufman, TX 75142. | Kaufman County Development Services Department, 106 West Grove Street, Kaufman, TX 75142. | Dec. 15, 2023 | 480411
Rockwall (FEMA Docket No.: B-2386). | City of Fate (23-06-0839P). | The Honorable David Billings Mayor, City of Fate, 1900 C.D. Boren Parkway Fate, TX 75087. | City Hall, 1900 C.D. Boren Parkway, Fate, TX 75087. | Dec. 18, 2023 | 480544
Travis (FEMA Docket No.: B-2382). | City of Pflugerville (23-06-0568P). | The Honorable Victor Gonzales Mayor, City of Pflugerville, P.O. Box 589, Pflugerville, TX 78691. | Planning and Development Services Department, 100 West Main Street, Pflugerville, TX 78691. | Dec. 18, 2023 | 481028
Webb (FEMA Docket No.: B-2391). | Unincorporated areas of Webb County (23-06-0352P). | The Honorable Tano E. Tijerina Webb County Judge, 1000 Houston Street, 3rd Floor Laredo, TX 78040. | Webb County Planning Department, 1110 Washington Street, Suite 302 Laredo, TX 78040. | Dec. 21, 2023 | 481059
Utah: Salt Lake (FEMA Docket No.: B-2376). | City of Murray (22-08-0780P). | The Honorable Brett A. Hales Mayor, City of Murray, 10 East 4800 South, 3rd Floor Murray, UT 84107. | Geographic Information Systems Division, 10 East 4800, South Murray, UT 84107. | Dec. 14, 2023 | 490103

[FR Doc. 2024-01104 Filed 1-19-24; 8:45 am]

BILLING CODE 9110-12-P